FEDERAL RESERVE SYSTEM

12 CFR Part 217

[Regulation Q; Docket No. R-1814]

RIN 7100-AG65

Risk-Based Capital Surcharges for Global Systemically Important Bank Holding Companies; Systemic Risk Report (FR Y-15); Extension of Comment Period

AGENCY: The Board of Governors of the Federal Reserve System.

ACTION: Proposed rule; extension of comment period.

SUMMARY: On September 1, 2023, the Board of Governors of the Federal Reserve System (Board) published in the Federal Register a proposal to amend the Board's rule that identifies and establishes risk-based capital surcharges for global systemically important bank holding companies. The Board has determined that an extension of the comment period until January 16, 2024, is appropriate.

DATES: Comments must be received by January 16, 2024.

ADDRESSES: You may submit comments, identified by Docket No. R-1814, RIN 7100-AG65 by any of the following methods:

Agency website: https://www.federalreserve.gov. Follow the instructions for submitting comments at https://www.federalreserve.gov/generalinfo/foia/ProposedRegs.cfm.

Federal eRulemaking Portal: https://www.regulations.gov. Follow the instructions for submitting comments.

Email: regs.comments@federalreserve.gov. Include the docket number and RIN in the subject line of the message.

Fax: (202) 452-3819 or (202) 452-3102.

Mail: Ann E. Misback, Secretary, Board of Governors of the Federal Reserve System, 20th Street and Constitution Avenue NW, Washington, DC 20551.

In general, all public comments will be made available on the Board's website at www.federalreserve.gov/generalinfo/foia/ProposedRegs.cfm as submitted, and will not be modified to remove confidential, contact or any identifiable information. Public comments may also be viewed electronically or in paper in Room M-4365A, 2001 C St. NW, Washington, DC 20551, between 9 a.m. and 5 p.m. during Federal business weekdays.

FOR FURTHER INFORMATION CONTACT: Anna Lee Hewko, Associate Director, (202) 530-6260; Brian Chernoff, Manager, (202) 452-2952; Jennifer McClean, Senior Financial Institution Policy Analyst II, (202) 785-6033; Division of Supervision and Regulation; or Jay Schwarz, Assistant General Counsel, (202) 452-2970; Mark Buresh, Special Counsel, (202) 452-5270; Jonah Kind, Senior Counsel, (202) 452-2045; David Imhoff, Attorney, (202) 452-2249, Legal Division, Board of Governors of the Federal Reserve System, 20th Street and Constitution Avenue NW, Washington, DC 20551. For users of TTY-TRS, please call 711 from any telephone, anywhere in the United States.

SUPPLEMENTARY INFORMATION: On September 1, 2023, the Board published in the Federal Register a proposal to amend the Board's rule that identifies and establishes risk-based capital surcharges for global systemically important bank holding companies.¹ An extension of the comment period will provide additional opportunity for the public to consider the proposal and prepare comments, including to address the questions posed by the agencies. Therefore, the Board is extending the end of the comment period for the proposal from November 30, 2023, to January 16, 2024.

¹ 88 FR 60385 (September 1, 2023).

By order of the Board of Governors of the Federal Reserve System, acting through the Secretary of the Board under delegated authority.
Ann E. Misback,
Secretary of the Board.

[FR Doc. 2023-23672 Filed 10-26-23; 8:45 am]

BILLING CODE P